DEPARTMENT OF DEFENSE

Department of the Army

Advisory Committee on Arlington National Cemetery, Honor Subcommittee and the Remember and Explore Subcommittee Meeting Notice

AGENCY: Department of the Army, DoD.

ACTION: Notice of open subcommittee meetings.

SUMMARY: The Department of the Army is publishing this notice to announce the following Federal advisory subcommittee meetings of the Honor Subcommittee and the Remember and Explore Subcommittee of the Advisory Committee on Arlington National Cemetery (ACANC). These meetings are open to the public. For more information about the Committee and the Subcommittees, please visit http://www.arlingtoncemetery.mil/AboutUs/FocusAreas.aspx.

DATES: The Honor Subcommittee will meet from 8:30 a.m. to 12:00 p.m. and the Remember and Explore Subcommittee will meet from 2:45 p.m. to 4:00 p.m. on Wednesday, June 7, 2017.

ADDRESSES: The Honor Subcommittee and the Remember & Explore Subcommittee will meet in the Welcome Center Conference Room, Arlington National Cemetery, Arlington, VA 22211.

FOR FURTHER INFORMATION CONTACT: Mr. Timothy Keating; Designated Federal Officer (Alternate) for the Committee and the Subcommittees, in writing at Arlington National Cemetery, Arlington VA 22211, or by email at timothy.p.keating.civ@mail.mil, or by phone at 1-877-907-8585.

SUPPLEMENTARY INFORMATION: This subcommittee meeting is being held under the provisions of the Federal Advisory Committee Act of 1972 (5 U.S.C., Appendix, as amended), the Sunshine in the Government Act of 1976 (U.S.C. 552b, as amended) and 41 CFR 102-3.150.

Purpose of the Meetings: The Advisory Committee on Arlington National Cemetery is an independent Federal advisory committee chartered to provide the Secretary of the Army independent advice and recommendations on Arlington National Cemetery, including, but not limited to, cemetery administration, the erection of memorials at the cemetery, and master planning for the cemetery. The Secretary of the Army may act on the committee's advice and recommendations. The primary purpose of the Honor Subcommittee is to accomplish an independent assessment of methods to address the long-term future of the Army national cemeteries, including how best to extend the active burials and what ANC should focus on once all available space is used. At this meeting the subcommittee will receive a presentation of the report to Congress concerning ANC capacity as required by Public Law 114-158 and subsequently conduct a roundtable discussion with visiting members of the public. The subcommittee may then report its deliberations and findings to the full committee.

The primary purpose of the Remember & Explore Subcommittee is to recommend methods to maintain the Tomb of the Unknown Soldier Monument, including the cracks in the large marble sarcophagus, the adjacent marble slabs, and the potential replacement marble stone for the sarcophagus already gifted to the Army; accomplish an independent assessment of requests to place commemorative monuments; and identify means to capture and convey ANC's history, including Section 60 gravesite mementos, and improve the quality of visitors' experiences now and for generations to come. At this meeting the subcommittee will hear a proposal to place a commemorative monument within ANC, receive a briefing of the ANC Monuments Working Group study of the proposal, and may vote to make a recommendation to the full committee to approve or disapprove the proposal. Additionally, the subcommittee is expected to select a subcommittee member to nominate to the full committee as a successor to the sitting Chairperson.

Proposed Agenda: The Honor Subcommittee will conduct a roundtable discussion with visiting members of the public of the ANC Capacity Report to Congress required by Public Law 114-158. The subcommittee may then report its deliberations and findings to the full committee. The Remember and Explore subcommittee will receive a presentation from a private association proposing to erect a commemorative monument within ANC in accordance with Title 38 U.S.C. 2409 and a presentation from the ANC Monuments Working Group regarding their study of the proposal. The subcommittee may deliberate and subsequently make a recommendation to the full Committee which may then make a recommendation to the Secretary of the Army whether to approve or disapprove the proposal.

Public's Accessibility to the Meeting: Pursuant to 5 U.S.C. 552b and 41 CFR 102-3.140 through 102-3.165, and the availability of space, this meeting is open to the public. Seating is on a first-come basis. The Women in Military Service for America Memorial Auditorium and the ANC Welcome Center Conference room are both readily accessible to and usable by persons with disabilities. For additional information about public access procedures, contact Mr. Timothy Keating, the subcommittee's Alternate Designated Federal Officer, at the email address or telephone number listed in the FOR FURTHER INFORMATION CONTACT section.

Written Comments and Statements: Pursuant to 41 CFR 102-3.105(j) and 102-3.140 and section 10(a)(3) of the Federal Advisory Committee Act, the public or interested organizations may submit written comments or statements to the subcommittee, in response to the stated agenda of the open meeting or in regard to the subcommittee's mission in general. Written comments or statements should be submitted to Mr. Timothy Keating, the subcommittee's Alternate Designated Federal Officer, via electronic mail, the preferred mode of submission, at the address listed in the FOR FURTHER INFORMATION CONTACT section. Each page of the comment or statement must include the author's name, title or affiliation, address, and daytime phone number. Written comments or statements being submitted in response to the agenda set forth in this notice must be received by the Designated Federal Officer at least seven business days prior to the meeting to be considered by the subcommittee. The Designated Federal Officer will review all timely submitted written comments or statements with the subcommittee Chairperson, and ensure the comments are provided to all members of the subcommittee before the meeting. Written comments or statements received after this date may not be provided to the subcommittee until its next meeting. Pursuant to 41 CFR 102-3.140d, the subcommittee is not obligated to allow the public to speak or otherwise address the subcommittee during the meeting. However, interested persons may submit a written statement or a request to speak for consideration by the subcommittee. After reviewing any written statements or requests submitted, the subcommittee Chairperson and the Designated Federal Officer may choose to invite certain submitters to present their comments verbally during the open portion of this meeting or at a future meeting. The Designated Federal Officer in consultation with the subcommittee Chairperson, may allot a specific amount of time for submitters to present their comments verbally.

Brenda S. Bowen,
Army Federal Register Liaison Officer.

[FR Doc. 2017-09647 Filed 5-11-17; 8:45 am]

BILLING CODE 5001-03-P